DEPARTMENT OF HEALTH AND HUMAN SERVICES

Health Resources and Services Administration

Meeting of the National Advisory Council on Migrant Health

AGENCY: Health Resources and Services Administration (HRSA), Department of Health and Human Services.

ACTION: Notice.

SUMMARY: In accordance with the Federal Advisory Committee Act, this notice announces that the Secretary's National Advisory Council on Migrant Health (NACMH) has scheduled a public meeting. Information about NACMH and the agenda for this meeting can be found on the NACMH website at: https://bphc.hrsa.gov/qualityimprovement/strategicpartnerships/nacmh.

DATES: May 31-June 3, 2022, 12:30-4:30 p.m. Eastern Time each day.

ADDRESSES: This meeting will be held virtually by webinar. Instructions for joining the meeting will be posted on the NACMH website 30 business days before the meeting date.

FOR FURTHER INFORMATION CONTACT: Esther Paul, NACMH, Designated Federal Official (DFO), Strategic Initiatives, Office of Policy and Program Development, Bureau of Primary Health Care, HRSA, 5600 Fishers Lane, Rockville, Maryland 20857; 301-594-4300; or epaul@hrsa.gov.

SUPPLEMENTARY INFORMATION: NACMH advises, consults with, and makes recommendations to the Secretary of Health and Human Services on policy, program development, and other matters of significance concerning the activities under section 217 of the Public Health Service Act, as amended (42 U.S.C. 218). Specifically, NACMH provides recommendations concerning policy related to the organization, operation, selection, and funding of migrant health centers, and other entities under grants and contracts under section 330 of the Public Health Service Act (42 U.S.C. 254b). NACMH meets twice each calendar year, or at the discretion of the DFO in consultation with the NACMH Chair.

During the May 31-June 3, 2022, meeting, NACMH will discuss topics and issues related to migratory and seasonal agricultural worker health. Agenda items are subject to change as priorities dictate. Refer to the NACMH website listed above for any updated information concerning the meeting.

Members of the public will have the opportunity to provide comments. Public participants may submit written statements in advance of the scheduled meeting. Oral comments will be honored in the order they are requested and may be limited as time allows. Requests to submit a written statement or make oral comments to NACMH should be sent to Esther Paul, DFO, using the contact information above at least three business days prior to the meeting.

Individuals who plan to attend and need special assistance or another reasonable accommodation should notify Esther Paul at the address and phone number listed above at least 10 business days prior to the meeting. Registration is required to attend the meeting. Registration and meeting attendance instructions will be posted on the NACMH website 30 business days prior to the meeting date.

Maria G. Button,
Director, Executive Secretariat.

[FR Doc. 2022-07313 Filed 4-5-22; 8:45 am]

BILLING CODE 4165-15-P